SOCIAL SECURITY ADMINISTRATION

Statement of Organization, Functions and Delegations of Authority: Correction

AGENCY: Social Security Administration.

ACTION: Correction notice.

SUMMARY: This notice corrects the notice: Social Security Administration—Statement of Organization, Functions and Delegations of Authority, published in the Federal Register on February 29, 2000 (65 FR 10846).

SUPPLEMENTARY INFORMATION: In the notice document 00-4755, which appeared on pages 10846 and 10847 in the issue of Tuesday, February 29, 2000, we show an incorrect SAC for the Office of Legislative Relations in the Office of the Deputy Commissioner, Legislation and Congressional Affairs (ODCLCA). This correction notice corrects that mistake. Make the correction as follows:

On page 10846, in the third column, item E, change the SAC in parentheses from TBH to TBK.

On page 10847, in the first column, item E change the SAC in parentheses from TBH to TBK.

Dated: April 7, 2000.
Lewis H. Kaiser,
Director, Center for Classification and Organization Management.

[FR Doc. 00-9324 Filed 4-13-00; 8:45 am]

BILLING CODE 4191-02-U